DEPARTMENT OF VETERANS AFFAIRS

[OMB Control No. 2900-0716]

Proposed Information Collection (Complaint of Employment Discrimination, VA Form 4939; Information for Pre-Complaint Processing, VA Form 08-10192) Activity: Comment Request

AGENCY: The Office of Resolution Management, Department of Veterans Affairs.

ACTION: Notice.

SUMMARY: The Office of Resolution Management (ORM), Department of Veterans Affairs (VA), is announcing an opportunity for public comment on the proposed collection of certain information by the agency. Under the Paperwork Reduction Act (PRA) of 1995, Federal agencies are required to publish notice in the Federal Register concerning each proposed collection of information, including each proposed revision of a currently approved collection. This notice solicits comments on information needed to process a complaint of employment discrimination.

DATES: Comments must be submitted on or before August 5, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No.: 2900-0716” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0716.”

SUPPLEMENTARY INFORMATION: Title: Complaint of Employment Discrimination, VA Form 4939; Information for Pre-Complaint Processing, VA Form 08-10192

OMB Control Number: 2900-0716.

Type of Review: Revision request for inclusion of VA Form 08-10192.

Abstract: VA employees, former employees and applicants for employment who believe they were denied employment based on race, color, religion, gender, national origin, age, physical or mental disability, genetic information and/or reprisal for prior Equal Employment Opportunity activity complete VA Form 4939 to file a complaint of discrimination. VA Form 08-10192 is the initial contact form filled out by individuals who believe they may have been discriminated against.

Affected Public: Individuals or households.

Estimated Annual Burden: 512.

Estimated Average Burden per Respondent: 30 minutes.

Frequency of Response: Annually.

Estimated Number of Respondents: 1022.

By direction of the Secretary:
Kathleen Manwell,
Program Analyst, VA Privacy Service, Office of Privacy and Records Management, Department of Veterans Affairs.

[FR Doc. 2016-15987 Filed 7-5-16; 8:45 am]

BILLING CODE 8320-01-P